DEPARTMENT OF DEFENSE

Defense Acquisition Regulations System

[Docket Number DARS-2023-0020]

Information Collection Requirement; Defense Federal Acquisition Regulation Supplement; Covered Defense Telecommunications Equipment or Services (OMB Control Number 0750-0002)

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of the estimate of the burden of the proposed information collection; ways to enhance the quality, utility, and clarity of the information to be collected; and ways to minimize the burden of the information collection on respondents, including through the use of automated collection techniques or other forms of information technology. The Office of Management and Budget (OMB) has approved this information collection for use under Control Number 0750-0002 through September 30, 2023. DoD proposes that OMB approve an extension of the information collection requirement, to expire three years after the approval date.

DATES: DoD will consider all comments received by July 18, 2023.

ADDRESSES: You may submit comments, identified by OMB Control Number 0750-0002, using any of the following methods:

○ Federal eRulemaking Portal: https://www.regulations.gov. Follow the instructions for submitting comments.

○ Email: osd.dfars@mail.mil. Include OMB Control Number 0750-0002 in the subject line of the message.

Comments received generally will be posted without change to https://www.regulations.gov, including any personal information provided.

FOR FURTHER INFORMATION CONTACT: Ms. Heather Kitchens, at 571-296-7152.

SUPPLEMENTARY INFORMATION:

Title and OMB Number: Defense Federal Acquisition Regulation Supplement (DFARS) Part 204, Covered Defense Telecommunications Equipment or Services; OMB Control Number 0750-0002.

Affected Public: Businesses or other for-profit and not-for-profit institutions.

Respondent's Obligation: Required to obtain or retain benefits.

Reporting Frequency: On occasion.

Number of Respondents: 3,446.

Annual Responses: 172,320.

Annual Response Burden Hours: 62,085.

Needs and Uses: The collection of information is necessary to protect against foreign interference with DoD telecommunications, which could jeopardize our military communications, the lives of our warfighters, and our national security. The collection of information is essential to the mission of the agencies to ensure DoD does not purchase prohibited equipment, systems, and services, and can respond appropriately if any such purchases are not identified until after delivery or use.

This requirement supports implementation of section 1656(b) of the National Defense Authorization Act for Fiscal Year 2018. Section 1656 prohibits DoD from procuring or obtaining, or extending or renewing a contract to procure or obtain, any equipment, system, or service to carry out the nuclear deterrence mission and homeland defense mission that uses covered telecommunications equipment or services as a substantial or essential component of any system, or as critical technology as a part of any system.

This requirement is implemented in the Defense Federal Acquisition Regulation Supplement (DFARS) through the provision at 252.204-7017, Prohibition on the Acquisition of Covered Defense Telecommunications Equipment or Services—Representation, and the clause at 252.204-2018, Prohibition on Acquisition of Covered Defense Telecommunications Equipment or Services.

This clearance covers the following requirements:

• DFARS 252.204-7017 requires that if an offeror provides an affirmative representation under the provision at 252.204-7016, Covered Defense Telecommunications Equipment or Services—Representation, that offeror is required to represent whether it will or will not provide under the contract covered defense telecommunications equipment or services.

• DFARS 252.204-7018 requires contractors to report covered telecommunications equipment, systems, and services identified during performance of a contract.

Jennifer D. Johnson,
Editor/Publisher, Defense Acquisition Regulations System.

[FR Doc. 2023-10682 Filed 5-18-23; 8:45 am]

BILLING CODE 5001-06-P